DEPARTMENT OF HEALTH AND HUMAN SERVICES

National Institutes of Health

National Institute on Alcohol Abuse and Alcoholism Amended Notice of Meeting

Notice is hereby given of a change in the meeting of the Epidemiology, Prevention and Behavior Research Review Subcommittee, June 06, 2016, 08:30 a.m. to June 06, 2016, 06:00 p.m., National Institute on Alcohol Abuse and Alcoholism, 5635 Fishers Lane, T-Level Conference Room 508/509, Rockville, MD, 20852 which was published in the Federal Register on April 07, 2016, 81FR20406.

This meeting is being amended to change the Contact Person from Katrina L. Foster, Ph.D. to Beata Buzas, Ph.D. The meeting is closed to the public.

Dated: April 26, 2016.
Melanie J. Gray,
Program Analyst, Office of Federal Advisory Committee Policy.

[FR Doc. 2016-10133 Filed 4-29-16; 8:45 am]

BILLING CODE 4140-01-P